DEPARTMENT OF TRANSPORTATION

Office of the Secretary

Notice of Applications for Certificates of Public Convenience and Necessity and Foreign Air Carrier Permits Filed Under Subpart B (Formerly Subpart Q) During the Week Ending November 10, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1996-1657.

Date Filed: November 7, 2006.

Due Date for Answers, Conforming Applications, or Motion to Modify Scope:November 28, 2006.

Description: Application of Alaska Central Express, Inc. requesting a fitness determination and reissuance of its certificate of public convenience and necessity to the extent necessary to permit Alaska Central to engage in interstate charter air transportation of passengers.

Docket Number: OST-2006-26328.

Date Filed: November 8, 2006.

Due Date for Answers, Conforming Applications, or Motion to Modify Scope: November 29, 2006.

Description: Application of VistaJet Luftfahrtunternehmen GmbH, requesting an exemption and a foreign air carrier permit authorizing it to provide charter foreign air transportation of persons, property, and mail using small aircraft between any point or points in Austria and any point or points in the United States; and between any point or points in United States and any point or points in a third country or countries, provided that such service constitutes part of a continuous operation, with or without a change of aircraft, that includes air service to Austria for the purpose of carrying local traffic between Austria and the United States, and other charters between third countries and the United States.

Renee V. Wright,
Program Manager, Docket Operations, Federal Register Liaison.

[FR Doc. E6-20237 Filed 11-28-06; 8:45 am]

BILLING CODE 4910-9X-P